NATIONAL SCIENCE FOUNDATION

Proposal and Award Policies and Procedures Guide; Comments Request

AGENCY: National Science Foundation.

ACTION: Notification of extension of public comment period.

SUMMARY: The National Science Foundation published a notice on May 25, 2012, at 77 FR 31401, seeking comments on the National Science Foundation Proposal and Award Policies and Procedures Guide. The original comment date was to end on June 25, 2012.

DATES: Comments on this notice will now be accepted until July 12, 2012.

ADDRESSES: Please send comments to Suzanne H. Plimpton, Reports Clearance Officer, National Science Foundation, 4201 Wilson Boulevard, Suite 295, Arlington, Virginia 22230 or send email to splimpto@nsf.gov. Individuals who use a telecommunications device for the deaf (TDD) may call the Federal Information Relay Service (FIRS) at 1-800-877-8339, which is accessible 24 hours a day, 7 days a week, 365 days a year (including federal holidays).

Dated: June 22, 2012.
Suzanne H. Plimpton,
Reports Clearance Officer, National Science Foundation.

[FR Doc. 2012-15697 Filed 6-26-12; 8:45 am]

BILLING CODE 7555-01-P